DEPARTMENT OF COMMERCE

International Trade Administration

[C-437-805]

Notice of Countervailing Duty Order: Sulfanilic Acid From Hungary

AGENCY: Import Administration, International Trade Administration, Department of Commerce.

ACTION: Notice of Countervailing Duty Order: Sulfanilic Acid from Hungary.

EFFECTIVE DATE: November 8, 2002.

FOR FURTHER INFORMATION CONTACT: Melani Miller or Daniel J. Alexy, Import Administration, International Trade Administration, U.S. Department of Commerce, 14th Street and Constitution Avenue, NW., Washington, DC 20230; telephone: (202) 482-0116 or (202) 482-1540, respectively.

Applicable Statute and Regulations

Unless otherwise indicated, all citations to the statute are references to the provisions of the Tariff Act of 1930, as amended by the Uruguay Round Agreements Act effective January 1, 1995 (“the Act”). In addition, unless otherwise indicated, all citations to the Department of Commerce's (“the Department”) regulations are to 19 CFR part 351 (April 2001).

Scope of Order

Imports covered by this order are all grades of sulfanilic acid (“sulfanilic acid” or “subject merchandise”), which include technical (or crude) sulfanilic acid, refined (or purified) sulfanilic acid, and sodium salt of sulfanilic acid.

Sulfanilic acid is a synthetic organic chemical produced from the direct sulfonation of aniline and sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, currently classifiable under the subheading 2921.42.22 of the Harmonized Tariff Schedule (“HTS”), contains 96 percent minimum sulfanilic acid, 1.0 percent maximum aniline, and 1.0 percent maximum alkali insoluble materials. Refined sulfanilic acid, also currently classifiable under 2921.42.22 of the HTS, contains 98 percent minimum sulfanilic acid, 0.5 percent maximum aniline, and 0.25 percent maximum alkali insoluble materials.

Sodium salt (sodium sulfanilate), currently classifiable under the HTS subheading 2921.42.90, is a powder, granular, or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, the written description of the scope of this order is dispositive.

Countervailing Duty Order

On September 25, 2002, the Department published in the Federal Register the Final Affirmative Countervailing Duty Determination: Sulfanilic Acid from Hungary, 67 FR 60223 (September 25, 2002).

On November 1, 2002, in accordance with section 705(d) of the Act, the U.S. International Trade Commission notified the Department that a U.S. industry is “materially injured,” within the meaning of section 705(b)(1)(A)(i) of the Act, by reason of imports of sulfanilic acid from Hungary.

Therefore, in accordance with section 706(a)(3) of the Act, on or after the date of publication of this notice in the Federal Register, Customs Service officers must require, at the same time as importers would normally deposit estimated duties, cash deposits for the subject merchandise equal to the countervailing duty rates as noted below. The “All Others” rate applies to all exporters of sulfanilic acid from Hungary not specifically listed below:

Producer/exporter | Ad valorem subsidy rate (percent)
Nitrokemia 2000 Rt. | 2.87
All Others | 2.87

Moreover, in accordance with section 706(a)(1) of the Act, the Department will direct the Customs Service to assess, upon further advice by the Department following the completion of a review requested under 19 CFR 351.213(b) or 19 CFR 351.214(b) (or if a review is not requested, in accordance with 19 CFR 351.212(c)), countervailing duties equal to the amount of the net countervailable subsidy determined to exist for entries of sulfanilic acid from Hungary.

Pursuant to section 706(a)(1) of the Act, if appropriate, based on the above-noted advice from the Department, for all producers and exporters of sulfanilic acid from Hungary, countervailing duties will be assessed on all unliquidated entries of sulfanilic acid from Hungary entered, or withdrawn from warehouse, for consumption on or after March 4, 2002, the date of publication of the Department's preliminary determination in the Federal Register (see Preliminary Affirmative Countervailing Duty Determination and Alignment of Final Countervailing Duty Determination With Final Antidumping Duty Determination: Sulfanilic Acid from Hungary, 67 FR 9696 (March 4, 2002)), and before July 2, 2002, the date the Department instructed Customs to discontinue the suspension of liquidation in accordance with section 703(d) of the Act (see also, The Statement of Administrative Action, H. Doc. No. 103-316, Vol. 1 at 874 (1994), reprinted in 1994 U.S.C.C.A.N. 3773, 4163), and on all subject merchandise entered, or withdrawn from warehouse, for consumption on or after the date of publication of this countervailing duty order in the Federal Register.

This notice constitutes the countervailing duty order with respect to sulfanilic acid from Hungary, pursuant to section 705(a) of the Act. Interested parties may contact the Central Records Unit, Room B-099 of the Main Commerce Building for copies of an updated list of countervailing duty orders currently in effect.

This countervailing duty order is published in accordance with sections 706(a) and 777(i) of the Act and 19 CFR 351.211.

Dated: November 4, 2002.
Faryar Shirzad,
Assistant Secretary for Import Administration.

[FR Doc. 02-28524 Filed 11-7-02; 8:45 am]

BILLING CODE 3510-DS-P